DEPARTMENT OF COMMERCE

National Oceanic and Atmospheric Administration

[RTID 0648-XF192]

Fishing Capacity Reduction Program for the Bering Sea and Aleutian Islands King and Tanner Crab Fisheries

AGENCY: National Marine Fisheries Service (NMFS), National Oceanic and Atmospheric Administration, Commerce.

ACTION: Notice of fee rate adjustment.

SUMMARY: NMFS issues this notice to decrease the fee rate to 1 percent for the Bristol Bay red king crab reduction endorsement fishery to repay the $17,129,957.23 subloan of the $97,399,357.11 reduction loan to finance the Bering Sea/Aleutian Islands (BSAI) King and Tanner crab fishing capacity reduction program. The fee rates for the other reduction endorsement fisheries within the BSAI King and Tanner crab fishing capacity reduction program remain unchanged at 5 percent.

DATES: The Bristol Bay red king crab program fee rate decrease will begin with landings on October 15, 2025. The first due date for fee payments with the decreased rate will be November 7, 2025.

ADDRESSES: Send questions about this notice to William Fritz, Financial Assistance Specialist, Financial Services Division, National Marine Fisheries Service, 1315 East-West Highway 13th Floor, Silver Spring, MD 20910-3282.

FOR FURTHER INFORMATION CONTACT: William Fritz, (301) 427-8078, William.Fritz@noaa.gov.

SUPPLEMENTARY INFORMATION:

Background

Sections 312(b) through (e) of the Magnuson-Stevens Fishery Conservation and Management Act (16 U.S.C. 1861a(b) through (e)) generally authorizes fishing capacity reduction programs. In particular, section 312(d) authorizes industry fee systems for repaying reduction loans which finance reduction program costs.

Subpart L of 50 part 600 is the framework rule generally implementing section 312(b) through (e).

Sections 1111 and 1112 of the Merchant Marine Act, 1936 (46 App. U.S.C. 1279f and 1279g) generally authorized reduction loans.

The Consolidated Appropriations Act of 2001 (Pub. L. 106-554) directed the Secretary of Commerce to establish the $100 million fishing capacity reduction program in the BSAI king and tanner crab fishery. Congress amended the authorizing Act twice (Pub. L. 107-20 and Pub. L. 107-117), once to change the crab reduction program's funding from a $50 million appropriation and a $50 million loan to a $100 million loan and once to clarify provisions about crab fishery vessels. NMFS adopted the program's implementation rule as § 600.1103 in a subpart M of part 600.

NMFS published the BSAI crab reduction program's proposed implementation rule on December 12, 2002 (67 FR 76329) and its final rule on December 12, 2003 (68 FR 69331). On November 24, 2004, NMFS published a Federal Register notice (69 FR 68313) advising the public that beginning on December 27, 2004, NMFS would tender the crab reduction program's reduction payments to 25 accepted bidders. NMFS allocated the $97,399,357.11 reduction loan to six reduction endorsement fisheries involved, as the following subamounts:

1. Bristol Bay red king, $17,129,957.23,

2. BSAI C. opilio and C. bairdi, $66,410,767.20,

3. Aleutian Islands brown king, $6,380,837.19,

4. Aleutian Islands red king, $237,588.04,

5. Pribilof red king and blue king, $1,571,216.35; and

6. St. Matthew blue king, $5,668,991.10.

NMFS published a fee payment collection system implementation rule on September 16, 2005 (70 FR 54653). Fee collection and payment began on October 17, 2005. On May 10, 2006, NMFS published a final rule to exempt any crab landed under the Community Development Quota (CDQ) Program from the fee regulations for the BSAI King and Tanner Crab Fishing Capacity Reduction Program (71 FR 27209).

Purpose

The purpose of this notice is to adjust, in accordance with the framework rule's § 600.1013(b), the fee rates for the BSAI king and tanner crab fishery. Section 600.1013(b) directs NMFS to recalculate the fee rate that will be reasonably necessary to ensure reduction loan repayment within the specified 30-year term.

NMFS has determined that the current fee rate for the Bristol Bay red king reduction endorsement fisheries, 2.5 percent, is projected to collect more than the annual amortization amount needed to repay the loan over the scheduled loan term. Therefore, NMFS is decreasing the fee rate to 1 percent for the Bristol Bay red king crab reduction endorsement fishery. The remaining reduction endorsement fisheries within the BSAI King and Tanner crab fishing capacity reduction program are not on a timely repayment schedule and their fees remain unchanged at the 5 percent rate capped by statute.

Fish buyers may continue to disburse collected fee deposits to NMFS by using http://www.pay.gov or by mailing payments to our lockbox. Our lockbox's address is: NMFS BSAI Crab Buyback Loan, P.O. Box 979008, St. Louis, MO 63197-9000. Fish buyers must include the fee collection report with the fee payment. Fish buyers using http://www.pay.gov will find an electronic fee collection report form. Fish buyers not using http://www.pay.gov may also access the NMFS website for a copy of the fee collection report at: https://www.fisheries.noaa.gov/national/funding-financial-services/bering-sea-and-aleutian-islands-king-and-tanner-crab-buyback-program.

Notice

The new 1 percent fee rate for the Bristol Bay red king crab reduction endorsement fishery will begin for all landings starting October 15, 2025. From and after this date, all fish sellers paying fees on the Bristol Bay red king crab reduction endorsement fisheries shall begin paying BSAI crab reduction loan program fees at the revised rates. The first due date for fee payments with the decreased rate will be November 7, 2025.

Fee collection and submission shall follow previously established methods in § 600.1013 of the framework rule and in the final fee rule published in the Federal Register on September 16, 2005 (70 FR 54654).

The revised fees applicable to the BSAI crab reduction program's reduction endorsement fisheries are as follows:

Reduction endorsement fisheries | Crab rationalization fisheries | Current fee rate (%) | New fee rate (%)
Bristol Bay red king | BBR | 2.5 | 1.0
BSAI C. opilio and C. bairdi | BSS, WBT, and EBT | 5.0 | 5.0
Aleutian Islands red king | WAI | 5.0 | 5.0
Pribilof red king and blue king | PIK | 5.0 | 5.0
St. Matthew blue king | SMB | 5.0 | 5.0

Authority: The authority for this action is 16 U.S.C. 1861a(b) through (e) and Pub. L. 106-554.

Dated: September 12, 2025.
Brian T. Pawlak,
Chief Financial Officer/Chief Administrative Officer, Director, Office of Management and Budget, National Marine Fisheries Service.

[FR Doc. 2025-17920 Filed 9-16-25; 8:45 am]

BILLING CODE 3510-22-P